DEPARTMENT OF COMMERCE

Bureau of Industry and Security

Emerging Technology and Research Advisory Committee; Notice of Open Meeting

The Emerging Technology and Research Advisory Committee (ETRAC) will meet on March 10, 2016, 8:30 a.m., Room 3884, at the Herbert C. Hoover Building, 14th Street between Pennsylvania and Constitution Avenues NW., Washington, DC The Committee advises the Office of the Assistant Secretary for Export Administration on emerging technology and research activities, including those related to deemed exports.

Agenda

Open Session

1. Welcome and Opening Remarks.

2. Update on Export Control Reform, Bureau of Industry and Security.

3. Issues for discussion: Atom-based sensing; International Summit on Human Gene Editing; Nanotechnology; Advanced Materials—Graphene Center—China; EAR-4E001.e; Sanctions and the Scientific Community—Russia; and Emerging Technology issues at recent events.

4. Remarks by: Senior Advisor for Innovation and Competitiveness, Office of the Secretary-U.S. Dept. of Commerce.

5. Presentation: “Addressing Electromagnetic Threats to U.S. Critical Infrastructure”.

6. JINSA Germunder Center for Defense Strategy.

7. Presentation: “Creative Disruption: Technology, Strategy and the Future of the Global Defense Industry”, Center for a New American Security.

8. Distribution of new emerging technology topics for analysis by ETRAC members

9. Discussion of ETRAC review of Export Administration Regulations needing revisions.

10. Comments from the Public.

The open sessions will be accessible via teleconference to 25 participants on a first come, first serve basis. To join the conference, submit inquiries to Ms. Yvette Springer at Yvette.Springer@bis.doc.gov no later than, March 3, 2016.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: February 10, 2016.
Yvette Springer,
Committee Liaison Officer.

[FR Doc. 2016-03157 Filed 2-16-16; 8:45 am]

BILLING CODE 3510-JT-P